FEDERAL COMMUNICATIONS COMMISSION

47 CFR Part 73

[DA 05-2498, MB Docket No. 04-248, RM-10990]

Radio Broadcasting Services; Big Pine Key, FL

AGENCY: Federal Communications Commission.

ACTION: Final rule, petition for reconsideration.

SUMMARY: This document grants the Petition for Reconsideration filed by Call Communications Group directed to the Report and Order in this proceeding by reserving Channel 239A at Big Pine Key, Florida for noncommercial educational use. See 70 FR 12832, published March 16, 2005. The reference coordinates for Channel *239A at Big Pine Key, Florida are 24-40-00 NL and 81-21-00 WL.

DATES: Effective November 10, 2005.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and ­Order, MB Docket No. 04-248 adopted September 23, 2005, and released September 26, 2005. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of the Memorandum Opinion and Order in this proceeding in a report to be sent to Congress and the General Accounting Office pursuant to the Congressional Review Act, see 5 U.S.C. 801(a)(1)(A).

List of Subjects in 47 CFR Part 73

Radio, Radio broadcasting.

Accordingly, FCC amends 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Florida, is amended by removing Channel 239A and by adding Channel *239A at Big Pine Key.

Federal Communications Commission.
John A. Karousos,
Assistant Chief, Audio Division, Media Bureau.

[FR Doc. 05-20214 Filed 10-11-05; 8:45 am]

BILLING CODE 6712-01-P